DEPARTMENT OF ENERGY

Federal Energy Regulatory Commission

[Docket No. EC03-73-000, et al.]

American Transmission Company, Inc., et al.; Electric Rate and Corporate Filings

April 1, 2003.

The following filings have been made with the Commission. The filings are listed in ascending order within each docket classification.

1. American Transmission Company LLC

[Docket No. EC03-73-000]

Take notice that on March 27, 2003, American Transmission Company LLC (ATCLLC) tendered for filing an Application for Authority to Acquire Transmission Facilities Under Section 203 of the Federal Power Act. ATCLLC requests that the Commission authorize ATCLLC to acquire ownership of certain transmission facilities from the Community Development Authority of the City of Juneau, Wisconsin and Badger Power Marketing Authority, Inc. ATCLLC requests Commission authorization by April 28, 2003.

ATCLLC states that a copy of the Application has been served on the Public Service Commission of Wisconsin, the Michigan Public Service Commission and the Illinois Commerce Commission.

Comment Date: April 17, 2003.

2. Pacific Gas and Electric Company

[Docket No. ER00-565-003]

Take notice that on March 28, 2003, Pacific Gas and Electric Company (PG&E) tendered for filing its supplemental filing in the Scheduling Coordinator Services Tariff (SCS Tariff) proceeding. PG&E initially filed the SCS Tariff on November 12, 1999. On January 11, 2000, the Commission accepted the SCS Tariff for filing, suspended it for a nominal period and set it for hearing. However, the Commission held hearings in abeyance pending the outcome of Docket No. ER97-2358-002. PG&E states that the parties have now requested that the SCS Tariff proceeding be reactivated. PG&E makes this supplemental filing to update the original filing. In the SCS Tariff, PG&E requests a retroactive effective date as of the commencement of the California Independent System Operator Corporation (ISO) operations (March 31, 1998). PG&E states that SCS Tariff seeks to recover the cost PG&E incurs from the ISO as Scheduling Coordinator for certain existing transmission service customers.

PG&E states that copies of this filing have been served upon the California Public Utilities Commission, all parties designated on the Official Service List for Docket ER00-565-000 and the ISO.

Comment Date: April 18, 2003.

3. Safe Harbor Water Power Corporation

[Docket No. ER03-423-001]

Take notice that on March 27, 2003, Safe Harbor Water Power Corporation submitted an additional explanation and support for the ratio of Accessory Electric Equipment costs to be included in its annual revenue requirement for Reactive Support and Voltage Control from Generation Sources Service in compliance with the Commission's Order dated March 12, 2003, in Docket No. ER03-423-000.

Comment Date: April 17, 2003.

4. TXU Portfolio Management Company LP

[Docket No. ER03-506-001]

Take notice that on March 28, 2003, TXU Portfolio Management Company LP (TXU Portfolio Management), tendered for filing a correction of its third revised market-based rate tariff (Tariff) that was filed on February 7, 2003. The TXU states that the correction reflects a slight change to paragraph seven (7) “Affiliate Sales Prohibited” of its Tariff to comply with the Commission Staff's request for a language change.

TXU Portfolio Management also tendered for filing, pursuant to Commission Staff's request, a Notice of Cancellation for TXU Energy Trading Company's second revised Tariff documenting that TXU Energy Trading Company is now operating as TXU Portfolio Management Company LP. TXU Portfolio Management requests that its third revised Tariff become effective as of January 10, 2003.

Comment Date: April 11, 2003.

5. American Electric Power Service Corporation

[Docket No.R03-662-000]

Take notice that on March 28, 2003, the American Electric Power Service Corporation (AEPSC), tendered for filing a New Network Integration Transmission Service Agreement (NITSA) for the City of Dowagiac, Michigan (Dowagiac), and Third Revised NITSA for American Municipal Power—Ohio, Inc. AEP also requests termination of NITSA No.147, an agreement with Commonwealth Edison Company for deliveries to Dowagiac that ended its initial term as of midnight February 28, 2003. AEPSC states that these agreements are pursuant to the AEP Companies' Open Access Transmission Service Tariff that has been designated as the Operating Companies of the American Electric Power System FERC Electric Tariff Third Revised Volume No. 6.

AEPSC requests that these service agreements be made effective on and after March 1, 2003. AEPSC states that a copy of the filing was served upon the Parties and the state utility regulatory commissions of Arkansas, Indiana, Kentucky, Louisiana, Michigan, Ohio, Oklahoma, Tennessee, Texas, Virginia and West Virginia.

Comment Date: April 18, 2003.

6. Carolina Power & Light Company

[Docket No. ER03-663-000]

Take notice that on March 28, 2003, Carolina Power & Light Company (CP&L) tendered for filing a Service Agreement for Network Integration Transmission Service and a Network Operating Agreement with The Town of Winterville, NC. CP&L states that service to this Eligible Customer will be in accordance with the terms and conditions of the Open Access Transmission Tariff filed on their behalf.

CP&L is requesting an effective date of March 1, 2003 for this Service Agreement. CP&L also states that a copy of the filing was served upon the North Carolina Utilities Commission and the South Carolina Public Service Commission.

Comment Date: April 18, 2003.

7. Westar Energy, Inc.

[Docket ER03-664-000]

Take notice that on March 28, 2003, Kansas Gas & Electric Company, Inc. and Westar Energy, Inc. (collectively Westar) submitted for filing a Notice of Cancellation of an Electric Power Supply Agreement between Westar Energy and the City of Erie, Kansas designated as Rate Schedule No. 164 and the City of Wathena, Kansas designated as Rate Schedule No. 217.

Westar states that copies of this filing were served on the City of Erie, Kansas; City of Wathena, Kansas and the Kansas Corporation Commission.

Comment Date: April 18, 2003.

8. Public Service Company of New Mexico

[Docket No. ER03-665-000]

Take notice that on March 28, 2003, the Public Service Company of New Mexico (PNM) submitted for filing an executed Network Integration Transmission Service Agreement (NITSA) and an associated Network Operating Agreement (NOA) (together the Agreements) with the United States Department of Energy—Western Area Power Administration (Western), dated February 27, 2003, under the terms of PNM's Open Access Transmission Tariff (OATT). PNM states the purpose of the NITSA and NOA is to facilitate delivery of electric service by Western to meet its network load requirements on Kirtland Air Force Base in Albuquerque, New Mexico. PNM states the Agreements are the result of the Settlement Agreement reached among the Parties to FERC Docket Nos. TX00-1-001 and ER00-896-001 (and approved by FERC letter order dated April 12, 2002) and the “Final Order Directing Transmission Services” issued April 29, 2002 by the Commission in those same two dockets. Service under the NITSA and NOA commenced on March 1, 2003, and PNM is requesting that same date as the effective date for the Agreements. PNM's filing is available for public inspection at its offices in Albuquerque, New Mexico.

PNM states that a copy of this filing has been served upon the Official Service List for Docket Nos. TX00-1-001 and ER00-896-001, the New Mexico Public Regulation Commission and the New Mexico Attorney General.

Comment Date: April 18, 2003.

9. Pacific Gas and Electric Company

[Docket No. ER03-666-000]

Take notice that on March 28, 2003, Pacific Gas and Electric Company (PG&E) tendered for filing changes to rate schedules for electric transmission service to the following customers: Bay Area Rapid Transit District, California Department of Water Resources, Minnesota Methane LLC, Modesto Irrigation District, Sacramento Municipal Utility District, the City and County of San Francisco, California, the Transmission Agency of Northern California, Turlock Irrigation District and the Western Area Power Administration for services to Sonoma County Water Agency. PG&E states the changes include a change in the existing wholesale transmission rate methodologies and a rate change to reflect the current cost of providing transmission service to the foregoing customers.

PG&E states that copies of this filing have been served upon the California Public Utilities Commission and the affected customers.

Comment Date: April 18, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-8471 Filed 4-7-03; 8:45 am]

BILLING CODE 6717-01-P